DEPARTMENT OF TRANSPORTATION

Maritime Administration

Voluntary Intermodal Sealift Agreement (VISA)/Joint Planning Advisory Group (JPAG)

AGENCY: Maritime Administration, DOT.

ACTION: Synopsis of August 17, 2004 Meeting with VISA Participants.

The VISA program requires that a notice of the time, place, and nature of each JPAG meeting be published in the Federal Register. The program also requires that a list of VISA participants be periodically published in the Federal Register. The full text of the VISA program, including these requirements, is published in 68 FR 8800-8808, dated February 25, 2003.

On August 17, 2004, the Maritime Administration (MARAD) and the U.S. Transportation Command co-hosted a meeting of the VISA JPAG at Ft. Eustis, Virginia.

Meeting attendance was by invitation only, due to the nature of the information discussed and the need for a government-issued security clearance. Of the 57 U.S.-flag carrier corporate participants enrolled in the VISA program at the time of the meeting, 16 companies participated in the meeting. In addition, representatives from MARAD, the Department of Defense, and maritime labor attended the meeting.

LtGen Gary Hughey, opened the meeting with a welcome to all attendees. He was followed by BG Mark Scheid, who provided participants with an overview of the meeting. The JPAG meeting included updates on: (1) Threats to surface deployment and distribution operations; (2) operations overview; (3) liner operations and sustainment update; (4) merchant mariner availability; and (5) maritime industry issues.

As of August 17, 2004, the following commercial U.S.-flag vessel operators were enrolled in the VISA program with MARAD: AAA Shipping No. 1 L.L.C.; A Way to Move, Inc.; America Cargo Transport, Inc.; American Automar, Inc.; American International Car Carrier, Inc.; American President Lines, Ltd.; American Roll-On Roll-Off Carrier, LLC; American Ship Management, L.L.C.; Bay Towing Corporation; Beyel Brothers Inc.; Central Gulf Lines, Inc.; Coastal Transportation, Inc.; Columbia Coastal Transport, LLC; CRC Marine Services, Inc.; Crowley Liner Services, Inc.; Crowley Marine Services, Inc.; Delta Towing; E-Ships, Inc.; Farrell Lines Incorporated; First American Bulk Carrier Corp.; First Ocean Bulk Carrier-I, LLC; First Ocean Bulk Carrier-II, LLC; First Ocean Bulk Carrier-III, LLC; Foss Maritime Company; Horizon Lines, LLC; Laborde Marine Lifts, Inc.; Laborde Marine, L.L.C.; Liberty Shipping Group Limited Partnership; Lockwood Brothers, Inc.; Lykes Lines Limited, LLC; Lynden Incorporated; Maersk Line, Limited; Matson Navigation Company, Inc.; Maybank Navigation Company, LLC; McAllister Towing and Transportation Co., Inc.; Moby Marine Corporation; Odyssea Shipping Line LLC; OSG Car Carriers, Inc.; Patriot Shipping, L.L.C.; RR & VO L.L.C.; Resolve Towing & Salvage, Inc.; Samson Tug & Barge Company, Inc.; Sea Star Line, LLC; SeaTac Marine Services, LLC; Sealift Inc.; Signet Maritime Corporation; STEA Corporation; Strong Vessel Operators LLC (SVO); Superior Marine Services, Inc.; TECO Ocean Shipping; Totem Ocean Trailer Express, Inc.; Trailer Bridge, Inc.; TransAtlantic Lines LLC; Troika International, Ltd.; U.S. Ship Management, Inc.; Waterman Steamship Corporation; and Weeks Marine, Inc.

FOR FURTHER INFORMATION CONTACT: Mr. Taylor E. Jones II, Director, Office of Sealift Support, (202) 366-2323.

Dated: August 25, 2004.
By Order of the Maritime Administrator.
Joel C. Richard,
Secretary.

[FR Doc. 04-19721 Filed 8-27-04; 8:45 am]

BILLING CODE 4910-81-P